DEPARTMENT OF COMMERCE

National Oceanic and Atmospheric Administration

[I.D. 061501D]

Marine Mammals; File No. 358-1564-00

AGENCY: National Marine Fisheries Service (NMFS), National Oceanic and Atmospheric Administration (NOAA), Commerce.

ACTION: Receipt of application for amendment.

SUMMARY: Notice is hereby given that the Alaska Department of Fish and Game, 1255 W. 8th Street, P.O. Box 25526, Juneau, Alaska 99802-5526 [P.I. Thomas Gelatt], has requested an amendment to scientific research Permit Number 358-1564-00.

DATES: Written or telefaxed comments must be received on or before August 6, 2001.

ADDRESSES: The amendment request and related documents are available for review upon written request or by appointment in the following office(s):

Permits and Documentation Division, Office of Protected Resources, NMFS, 1315 East-West Highway, Room 13705, Silver Spring, MD 20910 (301/713-2289); and

Alaska Region, NMFS, P.O. 21668, Juneau, AK 99802-1668 (907/586-7248).

Written comments or requests for a public hearing on this request should be submitted to the Chief, Permits and Documentation Division, F/PR1, Office of Protected Resources, NMFS, 1315 East-West Highway, Room 13705, Silver Spring, MD 20910. Those individuals requesting a hearing should set forth the specific reasons why a hearing on this particular amendment request would be appropriate.

Comments may also be submitted by facsimile at (301) 713-0376, provided the facsimile is confirmed by hard copy submitted by mail and postmarked no later than the closing date of the comment period. Please note that comments will not be accepted by e-mail or other electronic media.

FOR FURTHER INFORMATION CONTACT: Tammy Adams or Ruth Johnson, 301/713-2289.

SUPPLEMENTARY INFORMATION: The subject amendment to Permit No. 358-1564-00, issued on June 28, 2000 (65 FR 39878) is requested under the authority of the Marine Mammal Protection Act of 1972, as amended (16 U.S.C. 1361 et seq.), the Regulations Governing the Taking and Importing of Marine Mammals (50 CFR part 216), the Endangered Species Act of 1973, as amended (16 U.S.C. 1531 et seq.), and the regulations governing the taking, importing, and exporting of endangered and threatened species (50 CFR 222-226).

Permit No. 358-1564-00 authorizes the permit holder to: take Steller sea lions (Eumetopias jubatus) of all ages and both sexes over a five-year period in Alaska and British Columbia by aerial/boat surveys, capturing, handling, tagging, blood/biopsy sampling, and branding (of pups). The permit holder requests authorization to: administer Evans blue dye, collect additional blood and tissue samples from, and attachment of instruments to Steller sea lions already authorized to be captured and handled, and increase the frequency of aerial surveys and recaptures for purposes of scientific research.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: June 27, 2001.
Ann Terbush,
Chief, Permits and Documentation Division, Office of Protected Resources, National Marine Fisheries Service.

[FR Doc. 01-16842 Filed 7-3-01; 8:45 am]

BILLING CODE 3510-22-S